SMALL BUSINESS ADMINISTRATION

National Small Business Development Center Advisory Board; Public Meeting

The U.S. Small Business Administration National Small Business Development Center Advisory Board will hold a public meeting on Thursday, October 2, 2003, from 9 am to 1 pm in Seabreeze II at the San Diego Sheraton in San Diego, California to discuss such matters as may be presented by members, staff of the U.S. Small Business Administration, or others present.

For further information, please write or call Vanessa Piccioni, U. S. Small Business Administration, 409 Third Street SW., Sixth Floor, Washington, DC 20416, telephone number (202) 205-6705.

Sue Hensley,
Associate Administrator, Communications and Public Liaison.

[FR Doc. 03-24189 Filed 9-22-03; 8:45 am]

BILLING CODE 8025-01-P